DEPARTMENT OF AGRICULTURE

Forest Service

Intergovernmental Advisory Committee Meeting, Northwest Forest Plan

AGENCY: Forest Service, USDA.

ACTION: Notice of meeting.

SUMMARY: The Intergovernmental Advisory Committee (IAC), Northwest Forest Plan (NWFP), will meet on November 5, 2003, at the DoubleTree Hotel, located at the DoubleTree Hotel, 1000 NE Multnomah, Portland, Oregon 97232. The meeting will begin at 10 a.m. and adjourn at approximately 4 p.m. In general, the purpose of the meeting is to continue committee discussions related to NWFP implementation. Meeting agenda items include, but are not limited to, a report from the Regional Interagency Executive Committee on potential NWFP implementation improvements, an overview of how the Federal budget process affects plan implementation, along with other progress reports (such as updates on the Survey and Manage and the Aquatic Conservation Strategy supplemental environmental impact statements). The meeting is open to the public and fully accessible for people with disabilities. A 15-minute time slot is reserved for public comments at 10:15 a.m. Interpreters are available upon request at least 10 days prior to the meeting. Written comments may be submitted for the meeting record. Interested persons are encouraged to attend.

FOR FURTHER INFORMATION CONTACT: Questions regarding this meeting may be directed to Kath Collier, Management Analyst, Regional Ecosystem Office, 333 SW First Avenue, P.O. Box 3623, Portland, OR 97208 (Phone: 503-808-2165).

Dated: October 7, 2003.
Anne Badgley,
Designated Federal Official.

[FR Doc. 03-26975 Filed 10-23-03; 8:45 am]

BILLING CODE 3410-11-P